DEPARTMENT OF HOMELAND SECURITY

U.S. Immigration and Customs Enforcement

[OMB Control Number 1653-0038]

Agency Information Collection Activities: Student and Exchange Visitor Information System (SEVIS); Extension, With Change, of a Currently Approved Collection

AGENCY: U.S. Immigration and Customs Enforcement, Department of Homeland Security.

ACTION: 30-Day notice.

SUMMARY: In accordance with the Paperwork Reductions Act (PRA) of 1995 the Department of Homeland Security (DHS), U.S. Immigration and Customs Enforcement (ICE) will submit the following Information Collection Request (ICR) to the Office of Management and Budget (OMB) for review and clearance. This information collection was previously published in the Federal Register on February 9, 2021, allowing for a 60-day comment period. ICE received one non-substantive comment. The purpose of this notice is to allow an additional 30 days for public comments.

DATES: Comments are encouraged and will be accepted until May 21, 2021.

ADDRESSES: Written comments and recommendations for the proposed information collection should be sent within 30 days of the publication of this notice to www.reginfo.gov/public/do/PRAMain. Find this particular information collection by selecting “Currently under 30-day Review—Open for Public Comments” or by using the search function.

FOR FURTHER INFORMATION CONTACT: For specific questions related to collection activities, please contact Sharon Synder, Student and Exchange Visitor Program, 703-603-3400 or 1-800-892-4829, email: sevp@ice.dhs.gov.

SUPPLEMENTARY INFORMATION:

Comments

Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension, With Change, of a Currently Approved Collection.

(2) Title of the Form/Collection: Student and Exchange Visitor Information System (SEVIS).

(3) Agency form number, if any, and the applicable component of the Department of Homeland Security sponsoring the collection: I-17 and I-20; U.S. Immigration and Customs Enforcement.

(4) Affected public who will be asked or required to respond, as well as a brief abstract: Primary Non-profit institutions and individuals or households. SEVIS is an internet-based data entry, collection, and reporting system. It collects information on SEVP-certified school via the Form I-17, “Petition for Approval of School for Attendance by Nonimmigrant Student,” and collects information on the F and M nonimmigrant students that the SEVP-certified schools admit into their programs of study via the Forms I-20s: “Certificate of Eligibility for Nonimmigrant (F-1) Students Status—For Academic and Language Students” and “Certificate of Eligibility for Nonimmigrant (M-1) Students Status—For Vocational Students”. Additionally, there is a revision to add a new data field for city of birth. This additional field allows SEVP to distinguish between applicants with the same name and country of birth. The additional field is not expected to increase the burden per response.

(5) An estimate of the total number of respondents: The estimated total number of respondents for this information collection is 47,757.

(6) An estimate of the total public burden (in hours) associated with the collection: The total estimated annual burden is 1,019,757 hours.

Dated: April 15, 2021.
Scott Elmore,
PRA Clearance Officer.

[FR Doc. 2021-08123 Filed 4-20-21; 8:45 am]

BILLING CODE 9111-28-P